DEPARTMENT OF COMMERCE

National Oceanic and Atmospheric Administration

50 CFR Part 640

[Docket No. 110908576-2240-02]

RIN 0648-BB44

Spiny Lobster Fishery of the Gulf of Mexico and South Atlantic; Amendment 11

AGENCY: National Marine Fisheries Service (NMFS), National Oceanic and Atmospheric Administration (NOAA), Commerce.

ACTION: Final rule.

SUMMARY: NMFS issues this final rule to implement Amendment 11 to the Fishery Management Plan for the Spiny Lobster Fishery in the Gulf of Mexico and South Atlantic (FMP), as prepared and submitted by the Gulf of Mexico and South Atlantic Fishery Management Councils (Councils). This final rule limits spiny lobster trap fishing in certain areas in the exclusive economic zone (EEZ) off the Florida Keys to protect threatened species of corals and addresses the requirements of a 2009 Endangered Species Act (ESA) biological opinion on the spiny lobster fishery.

DATES: This rule is effective August 27, 2012.

ADDRESSES: Electronic copies of Amendment 11, which includes a supplemental environmental impact statement and a regulatory flexibility analysis, may be obtained from the Southeast Regional Office Web site at http://sero.nmfs.noaa.gov/sf/pdfs/Final_Spiny_Lobster_Amend_11_April_05_2012.pdf.

FOR FURTHER INFORMATION CONTACT: Susan Gerhart, telephone: 727-824-5305, or email: Susan.Gerhart@noaa.gov.

SUPPLEMENTARY INFORMATION: The spiny lobster fishery of the Gulf of Mexico (Gulf) and the South Atlantic is managed under the FMP. The FMP was prepared by the Councils and implemented through regulations at 50 CFR parts 622 and 640 under the authority of the Magnuson-Stevens Fishery Conservation and Management Act (Magnuson-Stevens Act).

A 2009 ESA biological opinion on the continued authorization of the spiny lobster fishery contained specific terms and conditions required to implement the prescribed reasonable and prudent measures and requires NMFS and the Councils to work together to protect areas of staghorn and elkhorn coral. This final rule addresses the required measure to create new or expand existing closed areas for lobster trap fishing where colonies of these threatened species are present.

On September 19, 2011, NMFS published a notice of intent to prepare a supplemental environmental impact statement for Amendment 11 and requested public comment (76 FR 57958). On April 27, 2012, NMFS published a notice of availability for Amendment 11 and requested public comment (77 FR 25116). On May 15, 2012, NMFS published a proposed rule for Amendment 11 and requested comment (77 FR 28560). The proposed rule and Amendment 11 outline the rationale for the action contained in this final rule. A summary of the action being implemented by this final rule is provided below.

This final rule prohibits spiny lobster trap fishing in 60 closed areas that cover a total of 5.9 mi² (15.3 km²), distributed throughout the South Atlantic EEZ off the Florida Keys. These areas were chosen to protect threatended coral colonies with high conservation value and areas of high coral density. The closed areas meet the applicable requirements of the 2009 ESA biological opinion.

Comments and Responses

NMFS received five public comment submissions on Amendment 11 and the proposed rule, including three comments from individuals. Two Federal agencies stated they had no comment on the rule. Specific comments related to the actions contained in Amendment 11 and the proposed rule, as well as NMFS' respective responses, are summarized below.

Comment 1: Lobster trapping destroys reefs and should be prohibited.

Response: Amendment 11 does not address the general use of traps in the lobster fishery. The purpose of Amendment 11 is to implement the specific terms and conditions of the 2009 ESA biological opinion, one of which is to create new or expand existing closed areas to protect elkhorn and staghorn coral. The purpose of this final rule is to implement Amendment 11 and is not intended to address all possible management measures for the lobster fishery as a whole. The prohibition of lobster trap fishing in the 60 areas implemented through Amendment 11 will help protect reefs in the designated areas. As explained in Amendment 11, these areas were selected by identifying elkhorn and staghorn coral colonies and applying six general criteria to choose the areas that will provide the greatest benefit. In consultation with various stakeholders, NMFS and the Councils selected areas to be closed to lobster trap fishing that protect threatened coral colonies with high conservation value and areas of high coral density.

Comment 2: Closing areas to lobster trap fishing is long overdue.

Response: The measures contained in this final rule were developed to meet specific terms and conditions of the 2009 ESA biological opinion. NMFS and the Councils gathered data on identified elkhorn and staghorn coral colonies, then worked with fishermen, scientists, and managers to select areas to close to lobster trap fishing. This colloborative and deliberative process took time, but is intended to ensure that the areas selected will protect elkhorn and staghorn coral with the highest conservation value without overly restricting access to lobster fishing areas.

Classification

The Regional Administrator, Southeast Region, NMFS has determined that this final rule is necessary for the conservation and management of protected species described within Amendment 11, and is consistent with the FMP, the 2009 ESA biological opinion, the Magnuson-Stevens Act, and other applicable law.

This final rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here.

No substantive comments were received on the certification provided in the proposed rule (77 FR 28560, May 15, 2012). No changes to the final rule were made in response to public comments. As a result, a final regulatory flexibility analysis was not required and none was prepared.

List of Subjects in 50 CFR Part 640

Fisheries, Fishing, Reporting and recordkeeping requirements.

Dated: July 23, 2012.
Alan D. Risenhoover,
Director, Office of Sustainable Fisheries, performing the functions and duties of the Deputy Assistant Administrator for Regulatory Programs, National Marine Fisheries Service.

For the reasons set out in the preamble, 50 CFR part 640 is amended as follows:

PART 640—SPINY LOBSTER FISHERY OF THE GULF OF MEXICO AND SOUTH ATLANTIC

1. The authority citation for part 640 continues to read as follows:

Authority: 16 U.S.C. 1801 et seq.

2. In § 640.7, paragraph (y) is added to read as follows:

§ 640.7 Prohibitions.

* * * * *

(y) Fish for a spiny lobster using trap gear in the areas specified in § 640.22(b)(4).

3. In § 640.22, paragraph (b)(4) is added to read as follows:

§ 640.22 Gear and diving restrictions.

* * * * *

(b) * * *

(4) Fishing with spiny lobster trap gear is prohibited year-round in the following areas bounded by rhumb lines connecting, in order, the points listed.

(i) Lobster Trap Gear Closed Area 1.

Point | North Lat. | West Long.
A | 24°31′15.002″ | 81°31′00.000″
B | 24°31′15.002″ | 81°31′19.994″
C | 24°31′29.999″ | 81°31′19.994″
D | 24°31′29.999″ | 81°31′00.000″
A | 24°31′15.002″ | 81°31′00.000″

(ii) Lobster Trap Gear Closed Area 2.

Point | North Lat. | West Long.
A | 24°31′20.205″ | 81°30′17.213″
B | 24°31′17.858″ | 81°30′27.700″
C | 24°31′27.483″ | 81°30′30.204″
D | 24°31′29.831″ | 81°30′19.483″
A | 24°31′20.205″ | 81°30′17.213″

(iii) Lobster Trap Gear Closed Area 3.

Point | North Lat. | West Long.
A | 24°31′42.665″ | 81°30′02.892″
B | 24°31′45.013″ | 81°29′52.093″
C | 24°31′34.996″ | 81°29′49.745″
D | 24°31′32.335″ | 81°30′00.466″
A | 24°31′42.665″ | 81°30′02.892″

(iv) Lobster Trap Gear Closed Area 4.

Point | North Lat. | West Long.
A | 24°31′50.996″ | 81°28′39.999″
B | 24°31′50.996″ | 81°29′03.002″
C | 24°31′56.998″ | 81°29′03.002″
D | 24°31′56.998″ | 81°28′39.999″
A | 24°31′50.996″ | 81°28′39.999″

(v) Lobster Trap Gear Closed Area 5.

Point | North Lat. | West Long.
A | 24°32′20.014″ | 81°26′20.390″
B | 24°32′13.999″ | 81°26′41.999″
C | 24°32′27.004″ | 81°26′45.611″
D | 24°32′33.005″ | 81°26′23.995″
A | 24°32′20.014″ | 81°26′20.390″

(vi) Lobster Trap Gear Closed Area 6.

Point | North Lat. | West Long.
A | 24°32′30.011″ | 81°24′47.000″
B | 24°32′23.790″ | 81°24′56.558″
C | 24°32′45.997″ | 81°25′10.998″
D | 24°32′52.218″ | 81°25′01.433″
A | 24°32′30.011″ | 81°24′47.000″

(vii) Lobster Trap Gear Closed Area 7.

Point | North Lat. | West Long.
A | 24°32′46.834″ | 81°27′17.615″
B | 24°32′41.835″ | 81°27′35.619″
C | 24°32′54.003″ | 81°27′38.997″
D | 24°32′59.002″ | 81°27′21.000″
A | 24°32′46.834″ | 81°27′17.615″

(viii) Lobster Trap Gear Closed Area 8.

Point | North Lat. | West Long.
A | 24°33′10.002″ | 81°25′50.995″
B | 24°33′04.000″ | 81°26′18.996″
C | 24°33′17.253″ | 81°26′21.839″
D | 24°33′23.254″ | 81°25′53.838″
A | 24°33′10.002″ | 81°25′50.995″

(ix) Lobster Trap Gear Closed Area 9.

Point | North Lat. | West Long.
A | 24°33′22.004″ | 81°30′31.998″
B | 24°33′22.004″ | 81°30′41.000″
C | 24°33′29.008″ | 81°30′41.000″
D | 24°33′29.008″ | 81°30′31.998″
A | 24°33′22.004″ | 81°30′31.998″

(x) Lobster Trap Gear Closed Area 10.

Point | North Lat. | West Long.
A | 24°33′33.004″ | 81°30′00.000″
B | 24°33′33.004″ | 81°30′09.998″
C | 24°33′41.999″ | 81°30′09.998″
D | 24°33′41.999″ | 81°30′00.000″
A | 24°33′33.004″ | 81°30′00.000″

(xi) Lobster Trap Gear Closed Area 11.

Point | North Lat. | West Long.
A | 24°33′50.376″ | 81°23′35.039″
B | 24°33′27.003″ | 81°24′51.003″
C | 24°33′40.008″ | 81°24′54.999″
D | 24°34′03.382″ | 81°23′39.035″
A | 24°33′50.376″ | 81°23′35.039″

(xii) Lobster Trap Gear Closed Area 12.

Point | North Lat. | West Long.
A | 24°34′00.003″ | 81°19′29.996″
B | 24°34′00.003″ | 81°20′04.994″
C | 24°34′24.997″ | 81°20′04.994″
D | 24°34′24.997″ | 81°19′29.996″
A | 24°34′00.003″ | 81°19′29.996″

(xiii) Lobster Trap Gear Closed Area 13.

Point | North Lat. | West Long.
A | 24°35′19.997″ | 81°14′25.002″
B | 24°35′19.997″ | 81°14′34.999″
C | 24°35′29.006″ | 81°14′34.999″
D | 24°35′29.006″ | 81°14′25.002″
A | 24°35′19.997″ | 81°14′25.002″

(xiv) Lobster Trap Gear Closed Area 14.

Point | North Lat. | West Long.
A | 24°44′37.004″ | 80°46′47.000″
B | 24°44′37.004″ | 80°46′58.000″
C | 24°44′47.002″ | 80°46′58.000″
D | 24°44′47.002″ | 80°46′47.000″
A | 24°44′37.004″ | 80°46′47.000″

(xv) Lobster Trap Gear Closed Area 15.

Point | North Lat. | West Long.
A | 24°49′53.946″ | 80°38′17.646″
B | 24°48′32.331″ | 80°40′15.530″
C | 24°48′44.389″ | 80°40′23.879″
D | 24°50′06.004″ | 80°38′26.003″
A | 24°49′53.946″ | 80°38′17.646″

(xvi) Lobster Trap Gear Closed Area 16.

Point | North Lat. | West Long.
A | 24°53′32.085″ | 80°33′22.065″
B | 24°53′38.992″ | 80°33′14.670″
C | 24°53′31.673″ | 80°33′07.155″
D | 24°54′24.562″ | 80°33′14.886″
A | 24°53′32.085″ | 80°33′22.065″

(xvii) Lobster Trap Gear Closed Area 17.

Point | North Lat. | West Long.
A | 24°53′33.410″ | 80°32′50.247″
B | 24°53′40.149″ | 80°32′42.309″
C | 24°53′32.418″ | 80°32′35.653″
D | 24°54′25.348″ | 80°32′43.302″
A | 24°53′33.410″ | 80°32′50.247″

(xviii) Lobster Trap Gear Closed Area 18.

Point | North Lat. | West Long.
A | 24°54′06.317″ | 80°32′34.115″
B | 24°53′59.368″ | 80°33′41.542″
C | 24°54′06.667″ | 80°33′48.994″
D | 24°54′13.917″ | 80°32′41.238″
A | 24°54′06.317″ | 80°32′34.115″

(xix) Lobster Trap Gear Closed Area 19.

Point | North Lat. | West Long.
A | 24°54′06.000″ | 80°31′33.995″
B | 24°54′06.000″ | 80°31′45.002″
C | 24°54′36.006″ | 80°31′45.002″
D | 24°54′36.006″ | 80°31′33.995″
A | 24°54′06.000″ | 80°31′33.995″

(xx) Lobster Trap Gear Closed Area 20.

Point | North Lat. | West Long.
A | 24°56′21.104″ | 80°28′52.331″
B | 24°56′17.012″ | 80°29′05.995″
C | 24°56′26.996″ | 80°29′08.996″
D | 24°56′31.102″ | 80°28′55.325″
A | 24°56′21.104″ | 80°28′52.331″

(xxi) Lobster Trap Gear Closed Area 21.

Point | North Lat. | West Long.
A | 24°56′53.006″ | 80°27′46.997″
B | 24°56′21.887″ | 80°28′25.367″
C | 24°56'35.002″ | 80°28′36.003″
D | 24°57′06.107″ | 80°27′57.626″
A | 24°56′53.006″ | 80°27′46.997″

(xxii) Lobster Trap Gear Closed Area 22.

Point | North Lat. | West Long.
A | 24°57′35.001″ | 80°27′14.999″
B | 24°57′28.011″ | 80°27′21.000″
C | 24°57′33.999″ | 80°27′27.997″
D | 24°57′40.200″ | 80°27′21.106″
A | 24°57′35.001″ | 80°27′14.999″

(xxiii) Lobster Trap Gear Closed Area 23.

Point | North Lat. | West Long.
A | 24°58′58.154″ | 80°26′03.911″
B | 24°58′48.005″ | 80°26′10.001″
C | 24°58′52.853″ | 80°26′18.090″
D | 24°59′03.002″ | 80°26′11.999″
A | 24°58′58.154″ | 80°26′03.911″

(xxiv) Lobster Trap Gear Closed Area 24.

Point | North Lat. | West Long.
A | 24°59′17.009″ | 80°24′32.999″
B | 24°58′41.001″ | 80°25′21.998″
C | 24°58′57.591″ | 80°25′34.186″
D | 24°59′33.598″ | 80°24′45.187″
A | 24°59′17.009″ | 80°24′32.999″

(xxv) Lobster Trap Gear Closed Area 25.

Point | North Lat. | West Long.
A | 24°59′44.008″ | 80°25′38.999″
B | 24°59′27.007″ | 80°25′48.997″
C | 24°59′32.665″ | 80°25′58.610″
D | 24°59′49.666″ | 80°25′48.612″
A | 24°59′44.008″ | 80°25′38.999″

(xxvi) Lobster Trap Gear Closed Area 26.

Point | North Lat. | West Long.
A | 25°01′00.006″ | 80°21′55.002″
B | 25°01′00.006″ | 80°22′11.996″
C | 25°01′18.010″ | 80°22′11.996″
D | 25°01′18.010″ | 80°21′55.002″
A | 25°01′00.006″ | 80°21′55.002″

(xxvii) Lobster Trap Gear Closed Area 27.

Point | North Lat. | West Long.
A | 25°01′34.997″ | 80°23′12.998″
B | 25°01′18.010″ | 80°23′44.000″
C | 25°01′22.493″ | 80°23′46.473″
D | 25°01′36.713″ | 80°23′37.665″
E | 25°01′46.657″ | 80°23′19.390″
A | 25°01′34.997″ | 80°23′12.998″

(xxviii) Lobster Trap Gear Closed Area 28.

Point | North Lat. | West Long.
A | 25°01′38.005″ | 80°21′25.998″
B | 25°01′28.461″ | 80°21′46.158″
C | 25°01′45.009″ | 80°21′53.999″
D | 25°01′54.553″ | 80°21′33.839″
A | 25°01′38.005″ | 80°21′25.998″

(xxix) Lobster Trap Gear Closed Area 29.

Point | North Lat. | West Long.
A | 25°01′53.001″ | 80°23′08.995″
B | 25°01′53.001″ | 80°23′17.997″
C | 25°02′01.008″ | 80°23′17.997″
D | 25°02′01.008″ | 80°23′08.995″
A | 25°01′53.001″ | 80°23′08.995″

(xxx) Lobster Trap Gear Closed Area 30.

Point | North Lat. | West Long.
A | 25°02′20.000″ | 80°22′11.001″
B | 25°02′10.003″ | 80°22′50.002″
C | 25°02′22.252″ | 80°22′53.140″
D | 25°02′32.250″ | 80°22′14.138″
A | 25°02′20.000″ | 80°22′11.001″

(xxxi) Lobster Trap Gear Closed Area 31.

Point | North Lat. | West Long.
A | 25°02′29.503″ | 80°20′30.503″
B | 25°02′16.498″ | 80°20′43.501″
C | 25°02′24.999″ | 80°20′52.002″
D | 25°02′38.004″ | 80°20′38.997″
A | 25°02′29.503″ | 80°20′30.503″

(xxxii) Lobster Trap Gear Closed Area 32.

Point | North Lat. | West Long.
A | 25°02′34.008″ | 80°21′57.000″
B | 25°02′34.008″ | 80°22′14.997″
C | 25°02′50.007″ | 80°22′14.997″
D | 25°02′50.007″ | 80°21′57.000″
A | 25°02′34.008″ | 80°21′57.000″

(xxxiii) Lobster Trap Gear Closed Area 33.

Point | North Lat. | West Long.
A | 25°03′11.294″ | 80°21′36.864″
B | 25°03′02.540″ | 80°21′43.143″
C | 25°03′08.999″ | 80°21′51.994″
D | 25°03′17.446″ | 80°21′45.554″
A | 25°03′11.294″ | 80°21′36.864″

(xxxiv) Lobster Trap Gear Closed Area 34.

Point | North Lat. | West Long.
A | 25°03′30.196″ | 80°21′34.263″
B | 25°03′39.267″ | 80°21′29.506″
C | 25°03′35.334″ | 80°21′19.801″
D | 25°03′26.200″ | 80°21′24.304″
A | 25°03′30.196″ | 80°21′34.263″

(xxxv) Lobster Trap Gear Closed Area 35.

Point | North Lat. | West Long.
A | 25°03′26.001″ | 80°19′43.001″
B | 25°03′26.001″ | 80°19′54.997″
C | 25°03′41.011″ | 80°19′54.997″
D | 25°03′41.011″ | 80°19′43.001″
A | 25°03′26.001″ | 80°19′43.001″

(xxxvi) Lobster Trap Gear Closed Area 36.

Point | North Lat. | West Long.
A | 25°07′03.008″ | 80°17′57.999″
B | 25°07′03.008″ | 80°18′10.002″
C | 25°07′14.997″ | 80°18′10.002″
D | 25°07′14.997″ | 80°17′57.999″
A | 25°07′03.008″ | 80°17′57.999″

(xxxvii) Lobster Trap Gear Closed Area 37.

Point | North Lat. | West Long.
A | 25°07′51.156″ | 80°17′27.910″
B | 25°07′35.857″ | 80°17′37.091″
C | 25°07′43.712″ | 80°17′50.171″
D | 25°07′59.011″ | 80°17′40.998″
A | 25°07′51.156″ | 80°17′27.910″

(xxxviii) Lobster Trap Gear Closed Area 38.

Point | North Lat. | West Long.
A | 25°08′12.002″ | 80°17′09.996″
B | 25°07′55.001″ | 80°17′26.997″
C | 25°08′04.998″ | 80°17′36.995″
D | 25°08′22.000″ | 80°17′20.000″
A | 25°08′12.002″ | 80°17′09.996″

(xxxix) Lobster Trap Gear Closed Area 39.

Point | North Lat. | West Long.
A | 25°08′18.003″ | 80°17′34.001″
B | 25°08′18.003″ | 80°17′45.997″
C | 25°08′29.003″ | 80°17′45.997″
D | 25°08′29.003″ | 80°17′34.001″
A | 25°08′18.003″ | 80°17′34.001″

(xl) Lobster Trap Gear Closed Area 40.

Point | North Lat. | West Long.
A | 25°08′45.002″ | 80°15′50.002″
B | 25°08′37.999″ | 80°15′56.998″
C | 25°08′42.009″ | 80°16′00.995″
D | 25°08′48.999″ | 80°15′53.998″
A | 25°08′45.002″ | 80°15′50.002″

(xli) Lobster Trap Gear Closed Area 41.

Point | North Lat. | West Long.
A | 25°08′58.007″ | 80°17′24.999″
B | 25°08′58.007″ | 80°17′35.999″
C | 25°09′09.007″ | 80°17′35.999″
D | 25°09′09.007″ | 80°17′24.999″
A | 25°08′58.007″ | 80°17′24.999″

(xlii) Lobster Trap Gear Closed Area 42.

Point | North Lat. | West Long.
A | 25°09′10.999″ | 80°16′00.000″
B | 25°09′10.999″ | 80°16′09.997″
C | 25°09′20.996″ | 80°16′09.997″
D | 25°09′20.996″ | 80°16′00.000″
A | 25°09′10.999″ | 80°16′00.000″

(xliii) Lobster Trap Gear Closed Area 43.

Point | North Lat. | West Long.
A | 25°09′28.316″ | 80°17′03.713″
B | 25°09′14.006″ | 80°17′17.000″
C | 25°09′21.697″ | 80°17′25.280″
D | 25°09′36.006″ | 80°17′12.001″
A | 25°09′28.316″ | 80°17′03.713″

(xliv) Lobster Trap Gear Closed Area 44.

Point | North Lat. | West Long.
A | 25°10′00.011″ | 80°16′06.000″
B | 25°10′00.011″ | 80°16′17.000″
C | 25°10′09.995″ | 80°16′17.000″
D | 25°10′09.995″ | 80°16′06.000″
A | 25°10′00.011″ | 80°16′06.000″

(xlv) Lobster Trap Gear Closed Area 45.

Point | North Lat. | West Long.
A | 25°10′29.002″ | 80°15′52.995″
B | 25°10′29.002″ | 80°16′04.002″
C | 25°10′37.997″ | 80°16′04.002″
D | 25°10′37.997″ | 80°15′52.995″
A | 25°10′29.002″ | 80°15′52.995″

(xlvi) Lobster Trap Gear Closed Area 46.

Point | North Lat. | West Long.
A | 25°11′05.998″ | 80°14′25.997″
B | 25°11′05.998″ | 80°14′38.000″
C | 25°11′20.006″ | 80°14′38.000″
D | 25°11′20.006″ | 80°14′25.997″
A | 25°11′05.998″ | 80°14′25.997″

(xlvii) Lobster Trap Gear Closed Area 47.

Point | North Lat. | West Long.
A | 25°12′00.998″ | 80°13′24.996″
B | 25°11′43.008″ | 80°13′35.000″
C | 25°11′48.007″ | 80°13′44.002″
D | 25°12′06.011″ | 80°13′33.998″
A | 25°12′00.998″ | 80°13′24.996″

(xlviii) Lobster Trap Gear Closed Area 48.

Point | North Lat. | West Long.
A | 25°12′18.343″ | 80°14′32.768″
B | 25°12′02.001″ | 80°14′44.001″
C | 25°12′07.659″ | 80°14′52.234″
D | 25°12′24.001″ | 80°14′41.001″
A | 25°12′18.343″ | 80°14′32.768″

(xlix) Lobster Trap Gear Closed Area 49.

Point | North Lat. | West Long.
A | 25°15′23.998″ | 80°12′29.000″
B | 25°15′04.676″ | 80°12′36.120″
C | 25°15′09.812″ | 80°12′50.066″
D | 25°15′29.148″ | 80°12′42.946″
A | 25°15′23.998″ | 80°12′29.000″

(l) Lobster Trap Gear Closed Area 50.

Point | North Lat. | West Long.
A | 25°16′01.997″ | 80°12′32.996″
B | 25°15′33.419″ | 80°12′52.394″
C | 25°15′44.007″ | 80°13′08.001″
D | 25°16′12.585″ | 80°12′48.597″
A | 25°16′01.997″ | 80°12′32.996″

(li) Lobster Trap Gear Closed Area 51.

Point | North Lat. | West Long.
A | 25°16′33.006″ | 80°13′30.001″
B | 25°16′33.006″ | 80°13′41.001″
C | 25°16′34.425″ | 80°13′41.026″
D | 25°16′41.850″ | 80°13′37.475″
E | 25°16′42.001″ | 80°13′30.001″
A | 25°16′33.006″ | 80°13′30.001″

(lii) Lobster Trap Gear Closed Area 52.

Point | North Lat. | West Long.
A | 25°17′04.715″ | 80°12′11.305″
B | 25°16′17.007″ | 80°12′27.997″
C | 25°16′23.997″ | 80°12′47.999″
D | 25°17′11.705″ | 80°12′31.300″
A | 25°17′04.715″ | 80°12′11.305″

(liii) Lobster Trap Gear Closed Area 53.

Point | North Lat. | West Long.
A | 25°17′23.008″ | 80°12′40.000″
B | 25°17′23.008″ | 80°12′49.997″
C | 25°17′33.005″ | 80°12′49.997″
D | 25°17′33.005″ | 80°12′40.000″
A | 25°17′23.008″ | 80°12′40.000″

(liv) Lobster Trap Gear Closed Area 54.

Point | North Lat. | West Long.
A | 25°20′57.996″ | 80°09′50.000″
B | 25°20′57.996″ | 80°10′00.000″
C | 25°21′07.005″ | 80°10′00.000″
D | 25°21′07.005″ | 80°09′50.000″
A | 25°20′57.996″ | 80°09′50.000″

(lv) Lobster Trap Gear Closed Area 55.

Point | North Lat. | West Long.
A | 25°21′45.004″ | 80°09′51.998″
B | 25°21′38.124″ | 80°09′56.722″
C | 25°21′49.124″ | 80°10′12.728″
D | 25°21′56.004″ | 80°10′07.997″
A | 25°21′45.004″ | 80°09′51.998″

(lvi) Lobster Trap Gear Closed Area 56.

Point | North Lat. | West Long.
A | 25°21′49.000″ | 80°09′21.999″
B | 25°21′49.000″ | 80°09′31.996″
C | 25°21′58.998″ | 80°09′31.996″
D | 25°21′58.998″ | 80°09′21.999″
A | 25°21′49.000″ | 80°09′21.999″

(lvii) Lobster Trap Gear Closed Area 57.

Point | North Lat. | West Long.
A | 25°24′31.008″ | 80°07′36.997″
B | 25°24′31.008″ | 80°07′48.999″
C | 25°24′41.005″ | 80°07′48.999″
D | 25°24′41.005″ | 80°07′36.997″
A | 25°24′31.008″ | 80°07′36.997″

(lviii) Lobster Trap Gear Closed Area 58.

Point | North Lat. | West Long.
A | 25°25′14.005″ | 80°07′27.995″
B | 25°25′14.005″ | 80°07′44.001″
C | 25°25′26.008″ | 80°07′44.001″
D | 25°25′26.008″ | 80°07′27.995″
A | 25°25′14.005″ | 80°07′27.995″

(lix) Lobster Trap Gear Closed Area 59.

Point | North Lat. | West Long.
A | 25°35′13.996″ | 80°05′39.999″
B | 25°35′13.996″ | 80°05′50.999″
C | 25°35′24.007″ | 80°05′50.999″
D | 25°35′24.007″ | 80°05′39.999″
A | 25°35′13.996″ | 80°05′39.999″

(lx) Lobster Trap Gear Closed Area 60.

Point | North Lat. | West Long.
A | 25°40′57.003″ | 80°05′43.000″
B | 25°40′57.003″ | 80°05′54.000″
C | 25°41′06.550″ | 80°05′53.980″
D | 25°41′18.136″ | 80°05′49.158″
E | 25°41′18.001″ | 80°05′43.000″
A | 25°40′57.003″ | 80°05′43.000″

[FR Doc. 2012-18303 Filed 7-26-12; 8:45 am]

BILLING CODE 3510-22-P